FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 11, 2017.

A. Federal Reserve Bank of Chicago (Colette A. Fried, Assistant Vice President) 230 South LaSalle Street, Chicago, Illinois 60690-1414:

1. James W. Mease, Winterset, Iowa; James W. Mease Profit Sharing & 401(k), Winterset, Iowa; Justin Mease, Ankeny, Iowa; Sue A. Mease, Winterset, Iowa; Jane M. Reed Revocable Trust, Jane M. Reed Trustee, Winterset, Iowa; John B. Reed Revocable Trust, John B. Reed Trustee, Winterset, Iowa; April Schaefer, Cedar Rapids, Iowa; David Trask, Winterset, Iowa; Judith Trask, Winterset, Iowa; Mary Reed Alles, Chillicothe, Missouri; Fred H. Reed, Johnston, Iowa; Honor Joel Sears, Spokane, Washington; as a group acting in concert, to acquire more than 10 percent of the voting shares of Farmers and Merchants Bancorp, and thereby indirectly control Farmers & Merchants State Bank, both in Winterset, Iowa.

Board of Governors of the Federal Reserve System, December 22, 2016.
Yao-Chin Chao,
Assistant Secretary of the Board.

[FR Doc. 2016-31360 Filed 12-27-16; 8:45 am]

BILLING CODE 6210-01-P